DEPARTMENT OF ENERGY

Federal Energy Regulatory Commission

Combined Notice of Filings #1

Take notice that the Commission received the following exempt wholesale generator filings:

Docket Numbers: EG19-123-000.

Applicants: Burke Wind, LLC.

Description: Notice of Self-Certification of Exempt Wholesale Generator Status of Burke Wind, LLC.

Filed Date: 6/11/19.

Accession Number: 20190611-5049.

Comments Due: 5 p.m. ET 7/2/19.

Docket Numbers: EG19-124-000.

Applicants: Skeleton Creek Wind, LLC.

Description: Notice of Self-Certification of Exempt Wholesale Generator Status of Skeleton Creek Wind, LLC.

Filed Date: 6/11/19.

Accession Number: 20190611-5081.

Comments Due: 5 p.m. ET 7/2/19.

Take notice that the Commission received the following electric rate filings:

Docket Numbers: ER10-3140-03.5.

Applicants: Inland Empire Energy Center, LLC.

Description: Triennial Updated Market Power Analysis for the Southwest Region of Inland Empire Energy Center, LLC.

Filed Date: 6/10/19.

Accession Number: 20190610-5130.

Comments Due: 5 p.m. ET 8/9/19.

Docket Numbers: ER19-2088-000.

Applicants: Lamarr Energy, LLC.

Description: Tariff Cancellation: Market Based Rate Tariff to be effective 6/10/2019.

Filed Date: 6/10/19.

Accession Number: 20190610-5065.

Comments Due: 5 p.m. ET 7/1/19.

Docket Numbers: ER19-2089-000.

Applicants: Puget Sound Energy, Inc.

Description: § 205(d) Rate Filing: Certificate of Concurrence to the LGIA (Northwestern) to be effective 6/10/2019.

Filed Date: 6/10/19.

Accession Number: 20190610-5097.

Comments Due: 5 p.m. ET 7/1/19.

Docket Numbers: ER19-2090-000.

Applicants: Southwest Power Pool, Inc.

Description: § 205(d) Rate Filing: 2899R1 Pawnee Wind Farm GIA Cancellation to be effective 5/12/2019.

Filed Date: 6/10/19.

Accession Number: 20190610-5098.

Comments Due: 5 p.m. ET 7/1/19.

Docket Numbers: ER19-2091-000.

Applicants: Midcontinent Independent System Operator, Inc.

Description: § 205(d) Rate Filing: 2019-06-10_SA 3314 Entergy Louisiana-St James Solar GIA (J1142) to be effective 5/24/2019.

Filed Date: 6/10/19.

Accession Number: 20190610-5099.

Comments Due: 5 p.m. ET 7/1/19.

Docket Numbers: ER19-2092-000.

Applicants: GridLiance Heartland LLC.

Description: Baseline eTariff Filing: Initial Rate Filing—OATT to be effective 8/9/2019.

Filed Date: 6/10/19.

Accession Number: 20190610-5101.

Comments Due: 5 p.m. ET 7/1/19.

Docket Numbers: ER19-2093-000.

Applicants: Southwestern Public Service Company.

Description: § 205(d) Rate Filing: SPS-INV-G-EP-Gen-2016-123_Sagamore Wind EP Agrmt—0.0.0 to be effective 6/11/2019.

Filed Date: 6/10/19.

Accession Number: 20190610-5102.

Comments Due: 5 p.m. ET 7/1/19.

Docket Numbers: ER19-2094-000.

Applicants: Public Service Company of Colorado.

Description: § 205(d) Rate Filing: 20190610 ADIT Double Averaging to be effective 8/9/2019.

Filed Date: 6/10/19.

Accession Number: 20190610-5103.

Comments Due: 5 p.m. ET 7/1/19.

Docket Numbers: ER19-2095-000.

Applicants: Rocky Mountain Reserve Group.

Description: § 205(d) Rate Filing: RMRG Bylaws Revision to be effective 8/1/2019.

Filed Date: 6/10/19.

Accession Number: 20190610-5104.

Comments Due: 5 p.m. ET 7/1/19.

Docket Numbers: ER19-2096-000.

Applicants: Emera Energy Services Subsidiary No. 14 LLC.

Description: § 205(d) Rate Filing: Notice of Succession to be effective 6/12/2019.

Filed Date: 6/11/19.

Accession Number: 20190611-5041.

Comments Due: 5 p.m. ET 7/2/19.

Take notice that the Commission received the following electric securities filings:

Docket Numbers: ES19-33-000.

Applicants: Northern Indiana Public Service Company.

Description: Application under Section 204 of the Federal Power Act for Authorization to Issue Securities of Northern Indiana Public Service Company LLC.

Filed Date: 6/11/19.

Accession Number: 20190611-5020.

Comments Due: 5 p.m. ET 7/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2019.
Nathaniel J. Davis, Sr.,
Deputy Secretary.

[FR Doc. 2019-12967 Filed 6-18-19; 8:45 am]

BILLING CODE 6717-01-P